DEPARTMENT OF HOMELAND SECURITY

Coast Guard

33 CFR Part 165

[Docket No. USCG-2012-0309]

RIN 1625-AA00

Safety Zone; Chicago Harbor, Navy Pier East, Chicago, IL; Correction

AGENCY: Coast Guard, DHS.

ACTION: Notice of enforcement of regulation; correction.

SUMMARY: The Coast Guard is correcting the docket number in a notice of enforcement that appeared in the Federal Register on September 26, 2013 (78 FR 59240). The correct docket number is USCG-2012-0309.

DATES: This correction is effective October 3, 2013.

FOR FURTHER INFORMATION CONTACT: MST1 Joseph McCollum, Prevention Department, Coast Guard Sector Lake Michigan, Milwaukee, WI, 414-747-7148.

SUPPLEMENTARY INFORMATION: The heading of the notice of enforcement of regulation published in the Federal Register of September 26, 2013, in FR Doc. 2013-23383, on page 59240, contained an incorrect docket Number, “USCG-2013-0309.” The correct RIN Number is “USCG-2013-0309.” We are publishing this notice to correct that error.

Correction of Publication

Accordingly, the notice of enforcement of regulation entitled Safety Zone; Chicago Harbor, Navy Pier East, Chicago, IL published in the Federal Register of September 26, 2013, in FR Doc. 2013-23383, is corrected as follows: On page 59240, in the heading, “Docket No. USCG-2013-0309” is corrected to read “Docket No. USCG-2012-0309”.

Dated: September 27, 2013.
Michael Cavallaro,
Commander, U.S. Coast Guard, Acting Chief, Office of Regulations and Administrative Law.

[FR Doc. 2013-24152 Filed 10-2-13; 8:45 am]

BILLING CODE 9110-04-P